COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products from the Procurement List that were furnished by nonprofit agencies employing persons who are blind or have other severe disabilities.

DATES: Comments must be received on or before: February 01, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

Product(s)

TID 60637

NSN(s)—Product Name(s):

5120-01-598-5652—Splitting Maul—6 lb, Sledge Eye, 36″ Fiberglass Handle

5120-01-598-5656—Splitting Maul—8 lb, Sledge Eye, 36″ Fiberglass Handle

Authorized Source of Supply: Keystone Vocational Services, Inc., Sharon, PA

Mandatory For: Total Government Requirement

Contracting Activity: GENERAL SERVICES ADMINISTRATION, FAS HEARTLAND REGIONAL ADMINISTRATO

TID 60638

NSN(s)—Product Name(s): 7920-01-215-6569—Cloth, Synthetic Shammy, Orange, 20″ x 23″

Authorized Source of Supply: Industries Blind and Visually Impaired, Inc., West Allis, WI

Mandatory For: Total Government Requirement

Contracting Activity: GSA/FSS GREATER SOUTHWEST ACQUISITI

Contracting Activity: DEPT OF VETERANS AFFAIRS, STRATEGIC ACQUISITION CENTER

TID 60639

NSN(s)—Product Name(s): 7420-01-617-1743—Talking Calculator, 508 Compliant, 12 Digit, Portable, Desktop, Battery Operated

Authorized Source of Supply: MidWest Enterprises for the Blind, Inc., Kalamazoo, MI

Mandatory For: Total Government Requirement

Contracting Activity: GSA/FAS ADMIN SVCS ACQUISITION BR(2

TID 60640

NSN(s)—Product Name(s): 5340-00-WIM-0076—Lanyard, 2 pc. Health Care

5340-00-WIM-0079—Lanyard, Red, White & Blue NASCAR

7045-00-NIB-0441—Navy Promotional Items, Digital Camouflage iPad Case with Navy Logo

7045-00-NIB-0442—Navy Promotional Items, Navy Screen Printed iPad Case with Navy Logo

7350-00-NIB-0147—Mug, 14oz. Blue Acrylic Mug, Health Care

7350-00-WIM-0149—Mug, 16oz. American Pride Travel Mug

7350-00-WIM-0150—Mug, 11oz. Acrylic Mug, Chaplain Corps

7350-00-WIM-0152—Mug, Acrylic, Navy Reserve, Transparent/Blue, 14oz.

7510-00-WIM-0535—Pencil, Carpenter, Navy Reserve, Yellow or Navy Blue, 7 1/16″ x 5/8″

7510-01-WIM-0100—Binder, 3 Ring, Navy Promotional, Chaplain, Letter, Navy Blue, 1″

7510-01-WIM-0105—3 Ring Binder

7510-01-WIM-0120—Book Cover, Navy Recruiting, Stretchable, 16 cm x 31 cm

7520-00-WIM-1472—Pen, Blue Lacq.—Health Care

7520-00-WIM-1473—Pen, Twist, Metal, Refillable, Navy Reserve, Blue Lacquered, Black Ink, Medium Pt.

7830-00-WIM-0012—Beverage Can Cooler, Blue w/3Color Imprint, NASCAR

7830-00-WIM-0026—Mini Pouch w/Ear Plugs, NASCAR

8405-00-WIM-0175—Ballcap, Recruiting and Promotional Materials, Better Quality, USN

8405-00-WIM-0176—Ballcap, Chaplain, Recruiting and Promotional Materials, USN

8405-00-WIM-0178—Ballcap, Recruiting and Promotional Materials, USN Reserve

8415-00-NIB-0141—Suit, Warm-Up, U.S. Navy, Navy Blue, Small

8415-00-NIB-0142—Suit, Warm-Up, U.S. Navy, Navy Blue, Medium

8415-00-NIB-0143—Suit, Warm-Up, U.S. Navy, Navy Blue, Large

8415-00-NIB-0144—Suit, Warm-Up, U.S. Navy, Navy Blue, X-Large

8415-00-NIB-0157—T-Shirt, Recruiting and Promotional Materials, Healthcare, USN, White, Large

8415-00-NIB-0158—T-Shirt, Recruiting and Promotional Materials, Healthcare, USN, White, Large

8415-00-WIM-0170—Polo Shirt, Chaplain, Recruiting and Promotional Materials, USN, Dark, Large

8415-00-WIM-0171—Polo Shirt, Chaplain, Recruiting and Promotional Materials, USN, Dark, X-Large

9905-00-NIB-0089—Luggage Tag, Healthcare

9905-00-WIM-0092—Temporary Tattoos, NASCAR

9905-00-WIM-0095—Ruler, Notable African American

9905-00-WIM-0216—PLUSH SHAPE

9905-00-WIM-0217—Plush Bear

9905-00-WIM-0300—NASCAR Kit (up to 8 items in plastic bag)

Authorized Source of Supply: MidWest Enterprises for the Blind, Inc., Kalamazoo, MI

Mandatory For: DEPT OF THE NAVY

Contracting Activity: DEPT OF THE NAVY, US FLEET FORCES COMMAND

Contracting Activity: DEPT OF THE NAVY, NAVSUP FLT LOG CTR NORFOLK

Contracting Activity: DEPT OF THE NAVY, W39L USA NG READINESS CENTER

TID 60641

NSN(s)—Product Name(s): 7930-00-NIB-0212—Cleaner, Heavy Duty Glass, Concentrate, 2 Liter

Authorized Source of Supply: Beacon Lighthouse, Inc., Wichita Falls, TX

Mandatory For: DEPT OF THE VETERANS AFFAIRS

Contracting Activity: DEPT OF VETERANS AFFAIRS, 241-NETWORK CONTRACT OFC 01(00241)

TID 60642

NSN(s)—Product Name(s): 8405-01-547-2559—Poncho Liner, Wet Weather, U.S. Army, Universal Camouflage

Authorized Source of Supply: Winston-Salem Industries for the Blind, Inc., Winston-Salem, NC

Mandatory For: DEPT OF DEFENSE

Contracting Activity: DEFENSE LOGISTICS AGENCY, DLA TROOP SUPPORT

TID 60643

NSN(s)—Product Name(s): 8465-01-524-7309—Pouch, Bandoleer Ammunition, 6 Magazine, Universal Camouflage

Authorized Source of Supply: Mississippi Industries for the Blind (Inc), Jackson, MS

Mandatory For: DEPT OF DEFENSE

Contracting Activity: DEFENSE LOGISTICS AGENCY, DLA TROOP SUPPORT

TID 60644

NSN(s)—Product Name(s): 8465-01-525-5531—Hydration System, MOLLE, Universal Camouflage

Authorized Source of Supply: The Lighthouse for the Blind, Inc. (Seattle Lighthouse), Seattle, WA

Mandatory For: DEPT OF DEFENSE

Contracting Activity: DEFENSE LOGISTICS AGENCY, DLA TROOP SUPPORT

TID 60645

NSN(s)—Product Name(s): 8530-00-080-6341—Toothbrush, Adult, 6″

Mandatory For: DEPT OF DEFENSE

Contracting Activity: DEFENSE LOGISTICS AGENCY, DLA TROOP SUPPORT

TID 60646

NSN(s)—Product Name(s): 6520-00-890-2080—Dental Kit, Adult

Mandatory For: DEPT OF DEFENSE

Contracting Activity: DEFENSE LOGISTICS AGENCY, DLA TROOP SUPPORT

TID 60647

NSN(s)—Product Name(s): 6520-00-086-6554—Dental Kit, Child

Mandatory For: DEPT OF DEFENSE

Contracting Activity: DEFENSE LOGISTICS AGENCY, DLA TROOP SUPPORT

TID 60648

NSN(s)—Product Name(s): 6520-01-063-7477—Floss, Dental, Waxed, 100 Yards

6520-01-063-7477—Floss, Dental, Waxed, 200 Yards

Mandatory For: DEPT OF DEFENSE

Contracting Activity: DEFENSE LOGISTICS AGENCY, DLA TROOP SUPPORT

Michael R. Jurkowski,
Director, Business Operations.

[FR Doc. 2025-24195 Filed 12-31-25; 8:45 am]

BILLING CODE 6353-01-P